DEPARTMENT OF LABOR

Office of the Secretary

Submission for OMB Review; Comment Request

September 7, 2001.

The Department of Labor (DOL) has submitted the following public information collection requests (ICRs) to the Office of Management and Budget (OMB) for review and approval in accordance with the Paperwork Reduction Act of 1995 (Pub. L. 104-13, 44 U.S.C. Chapter 35). A copy of this ICR, with applicable supporting documentation, may be obtained by calling the Department of Labor. To obtain documentation contact Darrin King at (202) 693-4129 or E-Mail: King-Darrin@dol.gov.

Comments should be sent to Office of Information and Regulatory Affairs, Attn: OMB Desk Officer for ETA, Office of Management and Budget, Room 10235, Washington, DC 20503 ((202) 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g. permitting electronic submission of response.

Type of Review: New collection.

Agency: Employment and Training Administration (ETA).

Title: Reporting and Performance Standards System for Migrant and Seasonal Farmworker Youth Programs Under Title I-D, section 167 of the Workforce Investment Act (WIA).

OMB Number: 1205-0NEW.

Affected Public: Not-for-profit institutions.

Type of Response: Recordkeeping and Reporting.

Total Annualized Capital/Startup Costs: $0.

Total Annual Operation and Maintenance Cost: $0.

Reporting and recordkeeping requirements | Number of respondents | Frequency | Number of annual responses | Estimated time per response (hours) | Burden hours
Plan Narrative | 10 | Annually | 10 | 5 | 50
Data Record | 10 | On occasion | 5,000 | 3 | 15,000
Report from Data Record | 10 | Quarterly | 10 | 2 | 20
Form ETA 9096, Budget Information Summary | 10 | Annually | 10 | 15 | 150
Form ETA 9097, Program Planning Summary | 10 | Annually | 10 | 15 | 150
Form ETA 9098, Program Status Summary | 10 | Quarterly | 40 | 7 | 280
Totals: |  |  | 5,080 |  | 15,650

Description: Section 185 of the Workforce Investment Act (WIA) (Pub. L. 105-220) requires funds recipients to keep records and submit such reports as may be required by the Secretary of Labor “to permit the tracing of funds to a level of expenditure adequate to ensure that the funds have not been spent unlawfully.” The WIA Final Rules at 20 CFR 667.300 require annual plans and quarterly performance reports from all “direct grant recipients”.

This will be a new data collection, per WIA requirements. The primary uses of the data under WIA 167 Migrant and Seasonal Farmworker Youth Program will also be to provide material reports to the Secretary of Labor, respond to Congressional inquiries, support Congressional testimony on behalf of the program and to identify areas of technical assistance need and performance improvement. Data is also used to establish performance standards for each of the required performance measures per regulations at Part 669, Subpart D, §§ 669.500 and 669.510.

Ira L. Mills,
Departmental Clearance Officer.

[FR Doc. 01-23314 Filed 9-18-01; 8:45 am]

BILLING CODE 4510-30-M